DEPARTMENT OF LABOR

Employment and Training Administration

Energy Industry and Construction and Skilled Trades in the Energy Industry; Solicitation for Grant Applications (SGA) SGA-DFA-PY-07-07: Amendment Number 1

AGENCY: Employment and Training Administration (ETA), Labor.

ACTION: Amendment.

SUMMARY: The Employment and Training Administration published a document in the Federal Register of January 23, 2008, announcing the availability of funds and solicitation for grant applications for the Energy Industry and Construction and Skilled Trades in the Energy Industry. This amendment will make changes to the January 23 document by clarifying and correcting this Solicitation.

FOR FURTHER INFORMATION CONTACT: Ariam Ferro, Grants Management Specialist, Telephone (202) 693-3968.

Amendment

In the Federal Register of January 23, 2008, in FR Volume 73, Number 15, the solicitation is hereby amended with the following:

1. This amendment is to clarify and answer questions raised about the definition of a region. On page 4001, Part I.3.A, Strategic Regional Partnerships, at the end of the first full paragraph, add the following text: Economic regions do not typically correspond to geographic or political jurisdictions such as municipal boundaries or state, county, or local workforce investment areas. Thus, partners should develop an understanding of the identified industry or industry sector that is within a state or across state borders. More information about the WIRED strategic framework can be found at: http://www.doleta.gov/WIRED.

2. On page 4008, Part V.1.C., the Strategies and Solutions for Addressing Industry-Identified Workforce Challenges section, delete the following text: The proposed project will address one or more workforce challenges identified by the energy industry and/or skilled trade occupations related to energy through the HGJTI, as discussed in Part I.a of this SGA (2 points). Add the following text: The proposed project will address one or more workforce challenges identified by the energy industry and/or skilled trade occupations related to energy through the HGJTI, as discussed in Part I.2 of this SGA (2 points).

3. On page 4003, Part I.3.E. Clear and Specific Outcomes, delete the following text: The common measures for adults include: (1) Entered employment, (2) job retention, and (3) average earnings increase. Add the following text: The common measures for adults include: (1) Entered employment, (2) job retention, and (3) average earnings.

4. This amendment is to address a question asked during the Prospective Applicant Conference webinar on February 1, 2008. For the purposes of this SGA, youth aged 16 and above are eligible to be served under this grant.

5. This amendment is to answer a question asked during the Prospective Applicant Conference webinar on February 1, 2008. For the purposes of this SGA, youth common measures should be used for 16 and 17 year-olds and adult common measures should be used for anyone ages 18 and above.

6. This amendment is to clarify an answer given during the Prospective Applicant Conference webinar on February 1, 2008. For the purposes of this SGA, no provision for profit will be allowed.

7. A virtual Prospective Applicant Conference was held via webinar for this grant competition on February 1, 2008. The presentation slides with notes can be viewed at: http://www.workforce3one.org/view.cfm?id=4788&info=1.

A recorded version can be viewed at: http://www.workforce3one.org/view.cfm?id=4795&info=1.

Signed at Washington, DC, this 12th day of February, 2008.
Eric Luetkenhaus,
Grant Officer, Employment & Training Administration.

[FR Doc. E8-3007 Filed 2-15-08; 8:45 am]

BILLING CODE 4510-FN-P